FEDERAL LABOR RELATIONS AUTHORITY

5 CFR Part 2429

Miscellaneous and General Requirements

Correction

In rule document 2023-14933, appearing on pages 43425-43426, in the issue of Monday, July 10, 2023, make the following corrections:

On page 43425, in the first column, after the DATES heading, in the second line, “July 11, 2023” is corrected to read “July 10, 2023”.

On the same page, in the same column, in the fourth line, “August 10, 2023” is corrected to read “August 9, 2023”.

[FR Doc. C1-2023-14399 Filed 7-11-23; 8:45 am]

BILLING CODE 0099-10-D